DEPARTMENT OF THE INTERIOR

Fish and Wildlife Service

Endangered and Threatened Wildlife and Plants; Initiation of 5-Year Reviews of 58 Species in California and Nevada; Availability of Completed 5-Year Reviews in California and Nevada

AGENCY: Fish and Wildlife Service, Interior.

ACTION: Notice of initiation of 5-year reviews; availability of completed 5-year reviews.

SUMMARY: We, the U.S. Fish and Wildlife Service, announce the initiation of a 5-year review of 58 species under section 4(c)(2)(B) of the Endangered Species Act (Act). The purpose of a 5-year review is to ensure that the classification of a species as threatened or endangered on the List of Endangered and Threatened Wildlife and Plants is accurate and based on the best scientific and commercial data available at the time of the review. We are requesting submission of any such information that has become available since the original listing of each of these 58 species. Based on the results of these 5-year reviews, we will make the requisite findings under section 4(c)(2)(A) of the Act. We also indicate in this notice the 5-year reviews we completed for species in California and Nevada in FY 2006.

DATES: We must receive your information no later than April 16, 2007. However, we will continue to accept new information about any listed species at any time.

ADDRESSES: See SUPPLEMENTARY INFORMATION for instructions on how to submit information and review the information that we receive on these species.

FOR FURTHER INFORMATION CONTACT: For species-specific information, contact the appropriate individual listed under “Public Solicitation of New Information.” For contact information about completed 5-year reviews, see “Completed 5-Year Reviews.”

SUPPLEMENTARY INFORMATION:

Background

Why Do We Conduct a 5-Year Review?

Under the Endangered Species Act (Act) (16 U.S.C. 1531 et seq.), we maintain a List of Endangered and Threatened Wildlife and Plants at 50 CFR 17.11 (for animals) and 17.12 (for plants). Section 4(c)(2)(A) of the Act requires that we conduct a review of listed species at least once every 5 years. Then, on the basis of such reviews under section 4(c)(2)(B), we determine whether or not any species should be removed from the List (delisted), or reclassified from endangered to threatened or from threatened to endangered. Delisting a species must be supported by the best scientific and commercial data available and only considered if such data substantiates that the species is neither endangered nor threatened for one or more of the following reasons: (1) The species is considered extinct; (2) the species is considered to be recovered; and/or (3) the original data available when the species was listed, or the interpretation of such data, were in error. Any change in Federal classification would require a separate rulemaking process. The regulations in 50 CFR 424.21 require that we publish a notice in the Federal Register announcing those species currently under active review. This notice announces our active review of the 58 species listed in Table 1.

Table 1.—Summary of Listing Information for 58 species in California and Nevada
Common name | Scientific name | Status | Where listed | Final listing rule
Animals
Bighorn (Sierra Nevada DPS) | Ovis canadensis californiana | Endangered | U.S.A. (CA—Sierra Nevada) | 65 FR 20 (03-JAN-00).
California tiger salamander (Santa Barbara County DPS) | Ambystoma californiense | Endangered | U.S.A (Santa Barbara County, CA) | 65 FR 57241 (21-SEP-00).
Clover Valley speckled dace | Rhinichthys osculus oligoporus | Endangered | U.S.A. (NV) | 54 FR 41448 (10-OCT-89).
Coachella Valley fringe-toed lizard | Uma inornata | Threatened | U.S.A. (CA) | 45 FR 63812 (25-SEP-80).
Desert slender salamander | Batrachoseps aridus | Endangered | U.S.A. (CA) | 38 FR 14678 (04-JUN-73).
El Segundo blue butterfly | Euphilotes battoides allyni | Endangered | U.S.A. (CA) | 41 FR 22041 (01-JUN-76).
Hiko White River springfish | Crenichthys baileyi grandis | Endangered | U.S.A. (NV) | 50 FR 39123 (27-SEP-85).
Independence Valley speckled dace | Rhinichthys osculus lethoporus | Endangered | U.S.A. (NV) | 54 FR 41448 (10-OCT-89).
Lahontan cutthroat trout | Oncorhynchus clarki henshawi | Threatened | U.S.A. (CA, NV, OR, UT) | 40 FR 29863 (16-JUL-75).
Lange's metalmark butterfly | Apodemia mormo langei | Endangered | U.S.A. (CA) | 41 FR 22041 (01-JUN-76).
Lotis blue butterfly | Lycaeides argyrognomon lotis | Threatened | U.S.A. (CA) | 41 FR 22041 (01-JUN-76).
Pacific pocket mouse | Perognathus longimembris pacificus | Endangered | U.S.A. (CA) | 59 FR 49752 (29-SEP-94).
Palos Verdes blue butterfly | Glaucopsyche lygdamus palosverdesensis | Endangered | U.S.A. (CA) | 45 FR 44939 (02-JUL-80).
Railroad Valley springfish | Crenichthys nevadae | Threatened | U.S.A. (NV) | 51 FR 10857 (31-MAR-86).
San Clemente loggerhead shrike | Lanius ludovicianus mearnsi | Endangered | U.S.A. (CA) | 42 FR 40682 (11-AUG-77).
Tipton kangaroo rat | Dipodomys nitratoides nitratoides | Endangered | U.S.A. (CA) | 53 FR 25608 (08-JUL-88).
White River springfish | Crenichthys baileyi baileyi | Endangered | U.S.A. (NV) | 50 FR 39123 (27-SEP-85).
Plants
Antioch Dunes evening primrose | Oenothera deltoides ssp. howellii | Endangered | U.S.A. (CA) | 43 FR 17910 (26-APR-78).
Applegate's milk vetch | Astragalus applegatei | Endangered | U.S.A. (OR) | 58 FR 40547 (28-JUL-93).
Ash-grey (Indian) paintbrush | Castilleja cinerea | Threatened | U.S.A. (CA) | 63 FR 49022 (14-SEP-98).
Beach layia | Layia carnosa | Endangered | U.S.A. (CA) | 57 FR 27848 (22-JUN-92).
Ben Lomond wallflower | Erysimum teretifolium | Endangered | U.S.A. (CA) | 59 FR 5499 (04-FEB-94).
Bear Valley sandwort | Arenaria ursina | Threatened | U.S.A. (CA) | 63 FR 49006 (14-SEP-98).
Braunton's milk vetch | Astragalus brauntonii | Endangered | U.S.A. (CA) | 62 FR 4172 (29-JAN-97).
Burke's goldfields | Lasthenia burkei | Endangered | U.S.A. (CA) | 56 FR 61173 (02-DEC-91).
California taraxacum | Taraxacum californicum | Endangered | U.S.A. (CA) | 63 FR 49006 (14-SEP-98).
Contra Costa goldfields | Lasthenia conjugens | Endangered | U.S.A. (CA) | 62 FR 33029 (18-JUN-97).
Contra Costa wallflower | Erysimum capitatum var. angustatum | Endangered | U.S.A. (CA) | 43 FR 17910 (26-APR-78).
Few-flowered navarretia | Navarretia leucocephala ssp. pauciflora (=N. pauciflora) | Endangered | U.S.A. (CA) | 62 FR 33029 (18-JUN-97).
Fish Slough milk vetch | Astragalus lentiginosus var. piscinensis | Threatened | U.S.A. (CA) | 63 FR 53596 (06-OCT-98).
Gowen cypress | Cupressus goveniana ssp. goveniana | Endangered | U.S.A. (CA) | 63 FR 43100 (12-AUG-98).
Greene's tuctoria | Tuctoria greenei | Endangered | U.S.A. (CA) | 62 FR 14338 (26-MAR-97).
Hoover's spurge | Chamaesyce hooveri | Threatened | U.S.A. (CA) | 62 FR 14338 (26-MAR-97).
Island barberry | Berberis pinnata ssp. insularis | Endangered | U.S.A. (CA) | 62 FR 40954 (31-JUL-97).
Island phacelia | Phacelia insularis ssp. insularis | Endangered | U.S.A. (CA) | 62 FR 40954 (31-JUL-97).
Lake County stonecrop | Parvisedum leiocarpum | Endangered | U.S.A. (CA) | 62 FR 33029 (18-JUN-97).
Loch Lomond coyote thistle | Eryngium constancei | Endangered | U.S.A. (CA) | 51 FR 45904 (23-DEC-86).
Lyon's pentachaeta | Pentachaeta lyonii | Endangered | U.S.A. (CA) | 62 FR 4172 (29-JAN-97).
Many-flowered navarretia | Navarretia leucocephala ssp. plieantha | Endangered | U.S.A. (CA) | 62 FR 33029 (18-JUN-97).
Marsh sandwort | Arenaria paludicola | Endangered | U.S.A. (CA) | 58 FR 41378 (03-AUG-93).
Mexican flannelbush | Fremontodendron mexicanum | Endangered | U.S.A. (CA) | 63 FR 54956 (13-OCT-98).
Monterey spineflower | Chorizanthe pungens var. pungens | Threatened | U.S.A (CA) | 59 FR 5499 (04-FEB-94).
Palmate-bracted bird's-beak | Cordylanthus palmatus | Endangered | U.S.A. (CA) | 51 FR 23765 (01-JUL-86).
Purple amole | Chlorogalum purpureum | Threatened | U.S.A. (CA) | 65 FR 14878 (20-MAR-00).
Salt marsh bird's-beak | Cordylanthus maritimus ssp. maritimus | Endangered | U.S.A. (CA) | 43 FR 44810 (28-SEP-78).
San Bernardino bluegrass | Poa atropurpurea | Endangered | U.S.A. (CA) | 63 FR 49006 (14-SEP-98).
San Benito evening-primrose | Camissonia benitensis | Threatened | U.S.A. (CA) | 50 FR 5755 (12-FEB-85).
San Joaquin Orcutt grass | Orcuttia inaequalis | Threatened | U.S.A. (CA) | 62 FR 14338 (26-MAR-97).
San Joaquin wooly-threads | Monolopia (=Lembertia) congdonii | Endangered | U.S.A. (CA) | 55 FR 29361 (19-JUL-90).
Santa Cruz cypress | Cupressus abramsiana | Endangered | U.S.A. (CA) | 52 FR 675 (08-JAN-87).
Santa Cruz Island fringepod | Thysanocarpus conchuliferus | Endangered | U.S.A. (CA) | 62 FR 40954 (31-JUL-97).
Sebastopol meadowfoam | Limnanthes vinculans | Endangered | U.S.A. (CA) | 56 FR 61173 (02-DEC-91).
Soft bird's-beak | Cordylanthus mollis ssp. mollis | Endangered | U.S.A. (CA) | 62 FR 61916 (20-NOV-97).
Solano grass | Tuctoria mucronata | Endangered | U.S.A. (CA) | 43 FR 44810 (28-SEP-78).
Sonoma sunshine | Blennosperma bakeri | Endangered | U.S.A. (CA) | 56 FR 61173 (02-DEC-91).
Southern mountain wild buckwheat | Eriogonum kennedyi var. austromontanum | Threatened | U.S.A. (CA) | 63 FR 49006 (14-SEP-98).
Suisun thistle | Cirsium hydrophilum var. hydrophilum | Endangered | U.S.A. (CA) | 62 FR 61916 (20-NOV-97).
Vail Lake ceanothus | Ceanothus ophiochilus | Threatened | U.S.A. (CA) | 63 FR 54956 (13-OCT-98).

What Information Do We Consider in the Review?

A 5-year review considers all new information available at the time of the review. In conducting these reviews, we consider the best scientific and commercial data that has become available since the current listing determination or most recent status review, such as:

A. Species biology including, but not limited to, population trends, distribution, abundance, demographics, and genetics;

B. Habitat conditions including, but not limited to, amount, distribution, and suitability;

C. Conservation measures that have been implemented that benefit the species;

D. Threat status and trends (see five factors under heading “How Do We Determine Whether a Species is Endangered or Threatened?”); and

E. Other new information, data, or corrections including, but not limited to, taxonomic or nomenclatural changes, identification of erroneous information contained in the List, and improved analytical methods.

How Do We Determine Whether a Species Is Endangered or Threatened?

Section 4(a)(1) of the Act requires that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Our assessment of these factors is required, under section 4(b)(1) of the Act, to be based solely on the best scientific and commercial data available.

What Could Happen as a Result of Our Review?

If we find information concerning the 58 species listed in Table 1 indicating that a change in classification may be warranted, we may propose a new rule that could do one of the following: (a) Reclassify the species from threatened to endangered; (b) reclassify the species from endangered to threatened; or (c) remove the species from the List. If we find that a change in classification is not warranted, the species will remain on the List under its current status.

Public Solicitation of New Information

To ensure that these 5-year reviews are complete and based on the best available scientific and commercial information, we solicit new information from the public, concerned governmental agencies, Tribes, the scientific community, environmental entities, industry, and any other interested parties concerning the status of the species.

If you wish to provide information for any species included in these 5-year reviews, submit your information and materials as follows:

For Coachella Valley fringe-toed lizard, desert slender salamander, El Segundo blue butterfly, Pacific pocket mouse, Palos Verdes blue butterfly, San Clement loggerhead shrike, ash-grey (Indian) paintbrush, Bear Valley sandwort, California taraxacum, Mexican flannelbush, salt marsh bird's-beak, San Bernardino bluegrass, southern mountain wild buckwheat, and Vail Lake ceanothus, send information to Field Supervisor, Attention: 5-Year Review, U.S. Fish and Wildlife Service, Carlsbad Fish and Wildlife Office, 6010 Hidden Valley Road, Carlsbad, CA 92011. Information may also be submitted electronically at fw8cfwocomments@fws.gov. To obtain further information, contact Scott Sobiech at the Carlsbad Fish and Wildlife Office at (760) 431-9440.

For the Sierra Nevada DPS of bighorn, the Santa Barbara County DPS of California tiger salamander, Ben Lomond wallflower, Braunton's milk-vetch, Fish Slough milk-vetch, Gowen cypress, island barberry, island phacelia, Lyon's pentachaeta, marsh sandwort, Monterey spineflower, purple amole, San Benito evening primrose, Santa Cruz cypress, and Santa Cruz Island fringepod, send information to Field Supervisor, Attention: 5-Year Review, U.S. Fish and Wildlife Service, Ventura Fish and Wildlife Office, 2493 Portola Road, Suite B, Ventura, CA 93003. Information may also be submitted electronically at fw1vfwo5year@fws.gov. To obtain further information on bighorn and California tiger salamander, contact Mike McCrary at the Ventura Fish and Wildlife Office at (805) 644-1766. To obtain further information on the plant species, contact Connie Rutherford at the Ventura Fish and Wildlife Office at (805) 644-1766.

For Lange's metalmark butterfly, Tipton kangaroo rat, Antioch Dunes evening primrose, Burke's goldfields, Contra Costa goldfields, Contra Costa wallflower, few-flowered navarretia, Greene's tuctoria, Hoover's spurge, Lake County stonecrop, Loch Lomond coyote thistle, many-flowered navarretia, palmate-bracted bird's-beak, San Joaquin Orcutt grass, San Joaquin wooly-threads, Sebastopol meadowfoam, soft bird's-beak, Solano grass, Sonoma sunshine, Suisun thistle, send information to Field Supervisor, Attention: 5-Year Review, U.S. Fish and Wildlife Service, Sacramento Fish and Wildlife Office, 2800 Cottage Way, Room W-2605, Sacramento, CA 95825. Information may also be submitted electronically at fw1sfo5year@fws.gov. To obtain further information, contact Craig Aubrey at the Sacramento Fish and Wildlife Office at (916) 414-6600.

For Clover Valley speckled dace, Hiko White River springfish, Independence Valley speckled dace, Lahontan cutthroat trout, Railroad Valley springfish, and White River springfish, send information to Field Supervisor, Attention: 5-Year Review, U.S. Fish and Wildlife Service, Nevada Fish and Wildlife Office, 1340 Financial Blvd., Suite 234, Reno, NV 89502. Information may also be submitted electronically at fw1nfwo_5yr@fws.gov. To obtain further information on Hiko White River springfish and White River springfish, contact Cynthia Martinez at the Southern Nevada Field at (702) 515-5230. To obtain further information on Clover Valley speckled dace, Independence Valley speckled dace, Lahontan cutthroat trout, and Railroad Valley springfish, contact Laurie Sada at the Nevada Fish and Wildlife Office at (775) 861-6300.

For lotis blue butterfly and beach layia, send information to Field Supervisor, Attention: 5-Year Review, U.S. Fish and Wildlife Service, Arcata Fish and Wildlife Office, 11655 Heindon Road, Arcata, CA 95521. Information may also be submitted electronically at lotisblue@fws.gov for Lotis blue butterfly and beachlayia@fws.gov for beach layia. To obtain further information on Lotis blue butterfly, contact Jim Watkins at the Arcata Fish and Wildlife Office at (707) 822-7201. To obtain further information on beach layia, contact Dave Imper at the Arcata Fish and Wildlife Office at (707) 822-7201.

For Applegate's milk-vetch, send information to Field Supervisor, Attention: 5-Year Review, U.S. Fish and Wildlife Service, Klamath Falls Fish and Wildlife Office, 1936 California St., Klamath Falls, OR 97601. Information may also be submitted electronically at kfalls@fws.gov. To obtain further information, contact Ron Larson at the Klamath Falls Fish and Wildlife Office at (541) 885-8481.

Before including your address, phone number, e-mail address, or other personal identifying information in your comment, be advised that your entire comment—including your personal identifying information—may be made publicly available at any time. While you can ask us in your comment to withhold from public review your personal identifying information, we cannot guarantee that we will be able to do so. We will not consider anonymous comments, however. To the extent consistent with applicable law, we will make all submissions from organizations or businesses, and from individuals identifying themselves as representatives or officials of organizations or businesses, available for public inspection in their entirety. Comments and materials received will be available for public inspection, by appointment, during normal business hours at the offices where the comments are submitted.

Completed 5-Year Reviews

We also take this opportunity to inform the public of 12 5-year reviews that we completed in FY 2006 for species in California and Nevada. These 12 reviews can be found at http://www.fws.gov/cno/es/5yr.html. Any recommended change in listing status will require a separate rulemaking process. The table below summarizes the results of these reviews:

Table 2.—Summary of species in California and Nevada for Which 5-year Reviews Were Completed in FY 2006
Common name | Scientific name | Recommendation | Lead Fish and Wildlife Office | Contact
Animals
California least tern | Sterna antillarum browni | Downlist | Carlsbad | Jane Hendron at (760) 431-9440
Giant garter snake | Thamnophis gigas | No status change | Sacramento | Al Donner at (916) 414-6600
Island night lizard | Xantusia riversiana | Downlist San Clemente Island | Carlsbad | Jane Hendron at (760) 431-9440
Least Bell's vireo | Vireo bellii pusillus | Downlist | Carlsbad | Jane Hendron at (760) 431-9440
Morro shoulderband snail | Helminthoglypta walkeriana | Downlist Morro shoulderband and delist Chorro shoulderband | Ventura | Lois Grunwald at (805) 644-1766
San Francisco garter snake | Thamnophis sirtalis tetrataenia | No status change | Sacramento | Al Donner at (916) 414-6600
Smith's blue butterfly | Euphilotes enoptes smithi | Downlist | Ventura | Lois Grunwald at (805) 644-1766
Valley elderberry longhorn beetle | Desmocerus californicus dimorphus | Delist | Sacramento | Al Donner at (916) 414-6600
Western snowy plover (Pacific Coast DPS) | Charadrius alexandrinus nivosus | No status change | Arcata | Al Donner at (916) 414-6600
Plants
Hidden Lake bluecurls | Trichostema austromontanum ssp. compactum | No status change | Carlsbad FWO | Jane Hendron at (760) 431-9440
Kneeland Prairie pennycress | Thlaspi californicum | No status change | Arcata FWO | Al Donner at (916) 414-6600
Santa Cruz Island rockcress | Sibara filifolia | No status change | Carlsbad FWO | Jane Hendron at (760) 431-9440

Authority

This document is published under the authority of the Endangered Species Act of 1973, as amended (16 U.S.C. 1531 et seq.).

Dated: February 7, 2007.
Ken McDermond,
Acting Manager, California/Nevada Operations Office, U.S. Fish and Wildlife Service.

[FR Doc. E7-2504 Filed 2-13-07; 8:45 am]

BILLING CODE 4310-55-P